CONSUMER PRODUCT SAFETY COMMISSION

Sunshine Act Meetings

TIME AND DATE: Tuesday, August 12, 2025; 11:30 a.m.*

PLACE: Hearing Room 420, Bethesda Towers, 4330 East West Highway, Bethesda, MD 20814.

STATUS: Commission Meeting—Closed to the Public.

MATTER TO BE CONSIDERED: Compliance Matter: Staff will brief the Commission on the status of enforcement matter.

CONTACT PERSON FOR MORE INFORMATION: Abioye Mosheim Oyewole, Acting Secretary, Division of the Secretariat, Office of the General Counsel, U.S. Consumer Product Safety Commission, 4330 East West Highway, Bethesda, MD 20814, (301) 504-7454.

* The Commission unanimously determined by recorded vote that Agency business requires calling the meeting without seven calendar days advance public notice.

Dated: August 11, 2025.
Abioye Mosheim Oyewole,
Acting Secretary.

[FR Doc. 2025-15353 Filed 8-11-25; 11:15 am]

BILLING CODE 6355-01-P